DEPARTMENT OF COMMERCE

Foreign-Trade Zones Board

[Order No. 1705]

Grant of Authority for Subzone Status Michelin North America, Inc. (Tire Distribution and Wheel Assembly) Baltimore, MD

Pursuant to its authority under the Foreign-Trade Zones Act of June 18, 1934, as amended (19 U.S.C. 81a-81u), the Foreign-Trade Zones Board (the Board) adopts the following Order:

Whereas, the Foreign-Trade Zones Act provides for “* * * the establishment* * * of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR Part 400) provide for the establishment of special-purpose subzones when existing zone facilities cannot serve the specific use involved, and when the activity results in a significant public benefit and is in the public interest;

Whereas, the City of Baltimore, grantee of Foreign-Trade Zone 74, has made application to the Board for authority to establish a special-purpose subzone at the warehouse/distribution and wheel assembly facility of Michelin North America, Inc., located in Elkton, MD, (FTZ Docket 55-2009, filed 12/03/2009);

Whereas, notice inviting public comment has been given in the Federal Register (74 FR 65515, 12/10/2009) and the application has been processed pursuant to the FTZ Act and the Board's regulations; and,

Whereas, the Board adopts the findings and recommendations of the examiner's report, and finds that the requirements of the FTZ Act and Board's regulations would be satisfied, and that the proposal would be in the public interest if subject to the restriction listed below;

Now, therefore, the Board hereby grants authority for subzone status for activity related to tire and tire accessories warehousing and distribution and wheel assembly at the facility of Michelin North America, Inc., located in Elkton, Maryland (Subzone 74B), as described in the application and Federal Register notice, subject to the FTZ Act and the Board's regulations, including Section 400.28, and further subject to the following condition:

Tires subject to temporary Section 421 duties shall be admitted in privileged foreign status (19 CFR Sec. 146.41) or domestic (duty paid) status (19 CFR Sec. 146.43).

Signed at Washington, DC, this 3rd day of September 2010.
Ronald K. Lorentzen,
Deputy Assistant Secretary for Import Administration, Alternate Chairman, Foreign-Trade Zones Board.

[FR Doc. 2010-23305 Filed 9-16-10; 8:45 am]

BILLING CODE P